DEPARTMENT OF HOUSING AND URBAN DEVELOPMENT

[Docket No. FR-5997-N-51]

30-Day Notice of Proposed Information Collection: Public Housing Annual Contributions Contract and Inventory Removal Application

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: October 6, 2017.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION, CONTACT: Colette Pollard, Reports Management Officer, QMAC, Department of Housing and Urban Development, 451 7th Street SW., Washington, DC 20410; email Colette.Pollard@hud.gov, or telephone 202-402-3400. This is not a toll-free number. Person with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on March 1, 2016 at 81 FR 10651.

A. Overview of Information Collection

Title of Information Collection: Public Housing Annual Contributions Contract and Inventory Removal Application.

OMB Approval Number: 2577-0075.

Type of Request: Revision of a currently approved collection.

Form Number: HUD-51999, HUD-52190, HUD-52840-A, HUD-53012, HUD-52860, HUD 52860-A, HUD 52860-B, HUD 52860-C; HUD 52860-D; HUD 52860-E, HUD 52860-F, HUD-52860-G, and HUD-5837.

Description of the need for the information and proposed use: HUD previously amended this information collection to consolidate all information that PHAs are required to submit to HUD in connection with their contractual duties to operate and remove public housing dwelling units and other real property under the United States Housing Act of 1937 (1937 Act) (42 U.S.C § 1437g).

Annual Contributions Contract (ACC) (HUD-53012). Section 9 of the 1937 Act permits the Secretary of HUD to make grants (i.e, annual contributions contracts) to Public Housing Agencies (PHAs) to achieve and maintain the lower income character of public housing projects. The Secretary is required to embody the provisions for such payments in an agreement (i.e., ACC). The purpose of the ACC is to establish the grant agreement between each Public Housing Agency (PHA) and HUD. The ACC establishes the basic terms and conditions for the PHA's public housing program and requires the PHA to manage and operate all of its public housing properties in accordance with the U.S. Housing Act of 1937 and all applicable HUD Requirements. This collection amends this ACC document by merging the current HUD-53012-A and HUD-53012-B forms into one document and adding requirements applicable to mixed-finance public housing development and making minor clarifications and updates, based on applicable statutes and regulations, on the contractual agreement.

Declaration of Trust (DOT) (HUD-51290). The purpose of the Declaration of Trust (DOT) is to require PHA's to remain seized of the title of public housing projects and other real property and to refrain from transferring, conveying, assigning, leasing, mortgaging, pledging, or otherwise encumbering or permitting or suffering any transfer, conveyance, assignment, lease, mortgage, pledge or other encumbrance of said property or any part thereof, appurtenances thereto, or any rent, revenues, income, or receipts therefrom or in connection therewith, or any of the benefits or contributions granted to it by or pursuant to the ACC. This collection amends this ACC document by merging the current HUD-51290-A (development) and HUD-51290-B (modernization) forms, into one document, as well as adding the Declaration of Restrictive Covenants (DORC) document for mixed-finance public housing developments into one form.

General Depository Agreement (GDA) (HUD-51999). The purpose of the General Depository Agreement (GDA) is to ensure PHAs use all program receipts received from HUD or otherwise associated with public housing funds for purposes of public housing, by requiring such financial assistance to be deposited into interest-bearing accounts at financial institutions whose deposits or accounts are insured by the Federal Deposit Insurance Corporation (FDIC) or the National Credit Union Share Insurance Fund (NCUSIF). This collection makes a small change to the Notice provision of the GDA to require that notice be implemented by the Depository within 24 hours of receipt. The GDA is an agreement between the PHA and the Depository and establishes the terms and conditions dictating the investment policies for the PHAs deposits.

Inventory Removal Application (HUD-52860). The purpose of the Inventory Removal Application (HUD-52860) is to ensure PHAs comply with the statutory and regulatory requirements when removing public housing projects and other real property subsidized by HUD from their inventory through various programs, including Sections 18, 22, 33, 32 of the 1937 Act and eminent domain settlement agreements and retentions under 2 CFR 200.311. This application and approval process also ensures an accurate and up-to-date building and unit count for the PHA. HUD uses the PHA's inventory of buildings and units for various purposes, such as funding and property inspections. This collection modifies this form to make it a better-tailored “global” form that applies to all removal actions. It is required in addition to the addendum related to the specific removal program.

Demolition/Disposition Addendum (HUD-52860-A). This collection adds this new addendum to specifically address the requirements of 24 CFR part 970 for demolition and disposition removals. These requirements were previously included in the global HUD-52860.

Total Development Cost (TDC) and Rehab Cost Estimate Addendum (HUD-52860-B). This information is required for all Inventory Removal Applications that propose a demolition under 24 CFR 970.15 or a disposition under 24 CFR 970.17 based on physical obsolescence. This collection makes formatting and instructional changes and refers users to the applicable HUD notice for more guidance.

Homeownership Addendum (HUD-52860-C). This information is required for all Inventory Removal Applications that propose a homeownership program under 24 CFR part 906. This collection makes formatting, instructional and other changes to provide clearer direction and to ensure PHAs are fully complying with the requirements of 24 CFR part 906.

Required Conversion Addendum (HUD-52860-D). This information is required for all Inventory Removal Applications that propose a required conversion under 24 CFR 972-Subpart A. This collection makes minor formatting, instructional and other changes to provide clearer direction and to ensure PHAs are fully complying with the requirements of 24 CFR part 972 Subpart-A.

Voluntary Conversion Addendum (HUD-52860-E). This information is required for all Inventory Removal Applications that propose a required conversion under 24 CFR 972-Subpart B. This collection makes minor formatting, instructional and other changes to provide clearer direction and to ensure PHAs are fully complying with the requirements of 24 CFR part 972 Subpart-B.

Eminent Domain Addendum (HUD-52860-F). This information is required for all Inventory Removal Applications that propose settlement agreement (in lieu of court proceedings) for public housing projects and other public housing property that taking entity proposes to condemn through eminent domain proceedings under applicable state law. This collection makes minor formatting, instructional and other changes to provide clearer direction and to ensure PHAs are fully complying with the requirements of PIH Notice 2012-8.

Retention Addendum (HUD-52860-G). This collection adds a new form that applies to PHAs who are requesting to retain certain public housing property in accordance with 2 CFR 200.311(c) and PIH Notice 2016-20.

Notification of Closeout or Future Public Housing Development (HUD-5837). This collection adds a new form that applies to PHAs who are intending to remove all dwelling units in their portfolio from their inventory. This is notification to HUD of a PHA's intention to either closeout from the public housing program or develop new public housing units. Such removal may be through any available law or HUD program, which may include Sections 18, 22, 33, 32 of the U.S. Housing Act of 1937 or the Rental Assistance Demonstration (RAD) program). This form will alert HUD about its future plans for either termination of the public housing ACC or development of new dwelling units. HUD will use this information to provide targeted technical assistance, to ensure HUD has an accurate database of federal public housing inventory and assets, and to monitor PHA compliance with the ACC and applicable federal laws and regulations.

Capital Fund Program Amendment to the ACC (HUD-52840-A). This form amends a PHA's ACC each time HUD provides Capital Fund Program (CFP) assistance to a PHA for capital and management activities of PHA developments. This collection amends this form to change its format from PDF/Word to Excel only.

This collection notes that in a previous amendment of this collection 2577-0075, functions and activities for Public Housing Annual Contributions Contract that were under OMB control number 2577-0270 were merged into this collection 2577-0075 and the Office Management and Budget (OMB) approved discontinuation of OMB Control Number 2577-0270.

Respondents: Public Housing Agencies.

ACC provision | Total responses | Burden hours per response | Total hours | Cost per hour ($) | Total Cost ($)
1. Execute new ACC via HUD form 53012-A and B | 40 | 5.5 | 220 | 24.83 | 5,463
2. Terminate or amend ACC via HUD-5837 | 40 | 9.8 | 390 | 24.83 | 9,684
3. Request HUD approval of non-dwelling leases or agreements | 114 | 6.4 | 735 | 24.83 | 18,250
4. HUD approval for easement uses | 48 | 73.4 | 3524 | 24.83 | 87,501
5. Submit General Depository Agreement (GDA) via form HUD 51999 | 265 | 2.5 | 651 | 24.83 | 16,164
6. Request to terminate GDA | 107 | 1.9 | 202 | 24.83 | 5,016
7. ACC revisions to change year end dates | 23 | 11.2 | 257 | 24.83 | 6,381
8. ACC to consolidate PHAS | 18 | 12.1 | 217 | 24.83 | 5,388
9. ACC revision to transfer programs | 43 | 9.1 | 391 | 24.83 | 9,709
10. Request review of Conflict of interest | 102 | 9.3 | 951 | 24.83 | 23,613
11. Request pooling of insurance | 5 | 19.4 | 97 | 24.83 | 2,409
12. Request for new Declaration of Trust (DOT) via form HUD 52190-A and B | 142 | 8.8 | 1249 | 24.83 | 31,013
13. Request DOT amendment or termination | 221 | 9.2 | 2031 | 24.83 | 50,430
14. Amend ACC for Capital Fund Finance via form HUD 52840-A | 73 | 10.8 | 788 | 24.83 | 19,566
15. Amend ACC for Mixed Finance Supplementary Legal Document | 94 | 21.1 | 1981 | 50 | 99,050
16. Amend ACC for Capital Grant | 2820 | 3.9 | 11,070 | 24.83 | 274,868
17. Amend ACC for Emergency Capital Fund Grant | 38 | 2.6 | 100 | 24.83 | 2,483
18. Amend ACC Capital Fund for Safety and Security | 75 | 1.3 | 96 | 24.83 | 2,384
19. Amend ACC to Recapture Capital Fund Grant | 123 | 5.2 | 643 | 24.83 | 15,966
20. Amend ACC for Energy Performance Contract | 38 | 5.1 | 192 | 24.83 | 4,767
21. Amend ACC for Community Facilities Grants | 13 | 2.2 | 28 | 24.83 | 695
22. Removal of public housing property from ACC through Section 18, 22, 33, 32, retentions, or eminent domain, via HUD form 52860 | 112 | 3 | 240 | 33.72 | 12,139
23. Removal of public housing property from ACC through demolition and/or disposition, including de minims, via (Section 18) via HUD form 52860-A | 80 | 3 | 240 | 33.72 | 12,139
24. Removal of public housing property from ACC through demolition and/or disposition, when justified by physical obsolescence (rehab cost-estimate) via HUD form 52860-B | 60 | 2 | 120 | 33.72 | 4046
25. Removal of public housing property from ACC through voluntary conversion (Section 22) via HUD form 52860-E | 2 | 6.0 | 12 | 33.72 | 405
26. Removal of public housing property from ACC through required conversion (Section 33) via HUD form 52860-D | 0 | 3.0 | 0 | 33.72 | 0
27. Removal of public housing property through homeownership (Section 32) via HUD Form 52860-C | 4 | 6.0 | 24 | 33.72 | 809
28. Removal of public housing property from ACC through eminent domain HUD form 52860-F | 6 | 2.0 | 12 | 33.72 | 404
29. Removal of public housing property from ACC through retention actions under 2 CFR 200.311 via HUD form 52860-G | 20 | 2.0 | 40 | 33.72 | 1,349
30. Supplementary Document: Unique Legal Document used by HQ Staff Mixed-Finance Amendment to the ACC | 60 | 24.0 | 1440 | 50 | 72,000
Totals | 4,614 | 286.1 | 27,723 | 798.92 | 778,647

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: including through the use of appropriate automated collection techniques or other forms of information technology, e.g., permitting electronic submission of responses.

HUD encourages interested parties to submit comment in response to these questions.

Authority: Section 3507 of the Paperwork Reduction Act of 1995, 44 U.S.C. Chapter 35.

Dated: August 30, 2017.
Colette Pollard,
Department Reports Management Officer, Office of the Chief Information Officer.

[FR Doc. 2017-18856 Filed 9-5-17; 8:45 am]

BILLING CODE 4210-67-P